DEPARTMENT OF TRANSPORTATION

Federal Aviation Administration

14 CFR Part 71

[Docket No. FAA-2014-0214; Airspace Docket No. 14-AGL-10]

Amendment of Class D and E Airspace; Grand Forks, ND

AGENCY: Federal Aviation Administration (FAA), DOT.

ACTION: Technical amendment; correction.

SUMMARY: This action amends a typographical error in the effective date of a final rule technical amendment correction published in the Federal Register of February 6, 2014, that amends Class D and E airspace in the Grand Forks, ND, area. The effective date year is corrected from February 6, 2013, to February 6, 2014.

DATES: Effective date: 0901 UTC, May 9, 2014.

FOR FURTHER INFORMATION CONTACT: Scott Enander, Central Service Center, Operations Support Group, Federal Aviation Administration, Southwest Region, 2601 Meacham Blvd., Fort Worth, TX 76137; telephone 817-321-7716.

SUPPLEMENTARY INFORMATION:

History

On February 6, 2014, a final rule technical amendment correction was published in the Federal Register amending Class D and Class E airspace in Grand Forks, ND (79 FR 7055, Docket No. FAA-2013-0950). The document became effective upon publication. Subsequent to publication, the FAA found the document showing the effective date as being one year prior to publication; February 6, 2013, instead of February 6, 2014.

Since this is an administrative change and does not affect the boundaries, altitudes, or operating requirements of the airspace, I find that notice and public procedure under 5 U.S.C. 553(b) is impracticable and contrary to the public interest. Also, as immediate corrective action is necessary to show the correct effective date to avoid confusion in the publication of the amendment to FAA Order 7400.9X, Airspace Designations and Reporting Points, dated August 7, 2013, and effective September 15, 2013, the FAA finds good cause, pursuant to 5 U.S.C. 553(d), for making this amendment effective in less than 30 days.

Final Rule Correction

Accordingly, pursuant to the authority delegated to me, in the Federal Register of February 6, 2014 (79 FR 7055), the date, under the DATES heading on page 7056, column 1, lines 9 and 10, is corrected to read:

DATES: Effective Date: 0901 UTC, February 6, 2014.

Issued in Fort Worth, Texas, on April 2, 2014.
Kent M. Wheeler
Manager, Operations Support Group, ATO Central Service Center.

[FR Doc. 2014-09892 Filed 5-8-14; 8:45 am]

BILLING CODE 4910-13-P